ENVIRONMENTAL PROTECTION AGENCY

[FRL-8738-2]

Science Advisory Board Staff Office; Clean Air Scientific Advisory Committee (CASAC); NOX & SOX Secondary NAAQS Review Panel Teleconference

AGENCY: Environmental Protection Agency (EPA).

ACTION: Notice.

SUMMARY: The Environmental Protection Agency (EPA) Science Advisory Board (SAB) Staff Office announces a public teleconference of the Clean Air Scientific Advisory Committee Oxides of Nitrogen (NOX) and Sulfur Oxides (SOX) Secondary National Ambient Air Quality Standards (NAAQS) Review Panel (CASAC Panel) to consider and discuss the Panel's working-draft report regarding its peer review of EPA's Risk and Exposure Assessment for Review of the Secondary National Ambient Air Quality Standards for Oxides of Nitrogen and Oxides of Sulfur: First Draft (EPA-452/P-08-005a).

DATES: The public teleconference will be held on Wednesday, November 19, 2008 from 1 p.m. to 4 p.m. (Eastern Time).

LOCATION: The public teleconference will be conducted by telephone only.

FOR FURTHER INFORMATION CONTACT: Any member of the public who wants further information concerning the teleconference meeting may contact Ms. Kyndall Barry, Designated Federal Officer (DFO), EPA Science Advisory Board (1400F), U.S. Environmental Protection Agency, 1200 Pennsylvania Avenue, NW., Washington, DC 20460; via telephone/voice mail (202) 343-9868; fax (202) 233-0643; or e-mail at barry.kyndall@epa.gov. General information concerning the CASAC can be found on the EPA Web site at http://www.epa.gov/casac.

SUPPLEMENTARY INFORMATION: Background: The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC is a Federal advisory committee chartered under the Federal Advisory Committee Act (FACA), as amended, 5 U.S.C., App. The Panel will comply with the provisions of FACA and all appropriate SAB Staff Office procedural policies.

Section 109(d)(1) of the CAA requires that the Agency periodically review and revise, as appropriate, the air quality criteria and the NAAQS for the six “criteria” air pollutants, including NOX and SOX. EPA is in the process of reviewing the secondary NAAQS for NOX and SOX. Welfare effects as defined in the CAA includes, but is not limited to, effects on soils, water, wildlife, vegetation, visibility, weather, and climate, as well as effects on materials, economic values, and personal comfort and well-being. As part of that process, EPA's Office of Air and Radiation (OAR) completed the Risk and Exposure Assessment (REA) for Review of the Secondary National Ambient Air Quality Standards for Oxides of Nitrogen and Oxides of Sulfur: First Draft (EPA-452/P-08-005a) in September 2008. The CASAC held a public meeting on October 1-2, 2008 to conduct a peer review of EPA's first draft REA.

The purpose of the November 19, 2008 meeting is for the CASAC Panel to discuss its working-draft report on the review of the first draft REA.

Technical Contacts: Any questions concerning EPA's Risk and Exposure Assessment for Review of the Secondary National Ambient Air Quality Standards for Oxides of Nitrogen and Oxides of Sulfur: First Draft should be directed to Dr. Anne Rea, OAR, at (919) 541-0053 or rea.anne@epa.gov.

Availability of Meeting Materials: EPA's Risk and Exposure Assessment for Review of the Secondary National Ambient Air Quality Standards for Oxides of Nitrogen and Oxides of Sulfur: First Draft can be accessed at http://www.epa.gov/ttn/naaqs/standards/no2so2sec/cr_rea.html. The Panel's draft report and agenda for the teleconference will be posted in advance of the meeting on the SAB Web site at http://www.epa.gov/casac.

Procedures for Providing Public Input: Interested members of the public may submit relevant written or oral information for consideration on the topics included in this advisory activity. Oral Statements: To be placed on the public speaker list for the November 19, 2008 meeting, interested parties should notify Ms. Kyndall Barry, DFO, by e-mail no later than November 14, 2008. Individuals making oral statements will be limited to three minutes per speaker. Written Statements: Written statements for the November 19, 2008 meeting should be received in the SAB Staff Office by November 14, 2008, so that the information may be made available to the CASAC Panel for its consideration prior to this meeting. Written statements should be supplied to the DFO in the following formats: One hard copy with original signature and one electronic copy via e-mail (acceptable file format: Adobe Acrobat PDF, MS Word, WordPerfect, MS PowerPoint, or Rich Text files in IBM-PC/Windows 98/2000/XP format).

Accessibility: For information on access or services for individuals with disabilities, please contact Ms. Barry at the phone number or e-mail address noted above, preferably at least ten days prior to the face-to-face meeting, to give EPA as much time as possible to process your request.

Dated: October 30, 2008.
Anthony F. Maciorowski,
Deputy Director, EPA Science Advisory Board Staff Office.

[FR Doc. E8-26397 Filed 11-4-08; 8:45 am]

BILLING CODE 6560-50-P